DEPARTMENT OF ENERGY

Federal Energy Regulatory Commission

[Project No. 14354-000]

Long Canyon Pumped Storage Project; Notice of Preliminary Permit Application Accepted for Filing and Soliciting Comments, Motions To Intervene, and Competing Applications

On January 12, 2012, Utah Independent Power, Inc., Nevada, filed an application for a preliminary permit, pursuant to section 4(f) of the Federal Power Act (FPA), proposing to study the feasibility of the Long Canyon Pumped Storage Project to be located near the town of Moab, Grand County, Utah. The project would affect federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) An upper reservoir formed by a 160-foot-high by 6,750-foot-long, roller-compacted concrete (RCC) dam (an open “U”—shaped structure varying from grade to roughly 160-foot-high) having a total storage capacity of 5,530 acre-feet and a water surface area of 90 acres at full pool elevation of 6,000 feet above mean-sea-level (msl); (2) a lower reservoir formed by a 200-foot-high by 730-foot-long, RCC dam, having a total storage capacity of 5,530 acre-feet and a water surface area of 110 acres at full pool elevation of 4,200 feet msl; (3) two 8,510-foot-long by 16-foot-diameter penstocks; (4) an underground powerhouse roughly 750-feet-long by 175-feet-high by 70-feet-wide; (5) two 320-foot-long by two 18-foot diameter tailraces; (6) an access tunnel roughly 36-feet-in-diameter and 2,470-feet-long, connecting the project's powerhouse to Grand County Highway 279; (7) the existing trail-road relocated to the south side of the reservoir to an elevation of 4,210 feet msl; and (8) pump-turbines with a capacity of roughly 800 megawatts (MW) (3 units × 267 MW unit). The annual energy output would be approximately 1,077,000 megawatthours. Twin 25—kilovolt (kV) circuit transmission lines would interconnect with an existing Rocky Mountain Power transmission line via a 40-mile-long interconnection.

Applicant Contact: Mr. Frank L. Mazzone, Utah Independent Power, Inc., 957 Fairway Drive, Sonoma, CA 95476; phone (707) 996-2573.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14354) in the docket number field to access the document. For assistance, contact FERC Online Support.

Dated: March 23, 2012.
Kimberly D. Bose,
Secretary.

[FR Doc. 2012-7642 Filed 3-29-12; 8:45 am]

BILLING CODE 6717-01-P